DEPARTMENT OF HOMELAND SECURITY

Coast Guard

33 CFR Parts 100 and 165

[Docket No. USCG-2014-0865]

Special Local Regulations and Safety Zones; Recurring Events Held in the Coast Guard Sector Northern New England Captain of the Port Zone

AGENCY: Coast Guard, DHS.

ACTION: Notice of enforcement.

SUMMARY: The Coast Guard will enforce the events outlined in Tables 1 and 2 taking place throughout the Sector Northern New England Captain of the Port (COTP) Zone. This action is necessary to protect marine traffic and spectators from the hazards associated with powerboat races, regattas, boat parades, rowing and paddling boat races, swim events, and fireworks displays. During the enforcement period, no person or vessel may enter the special local regulation area or safety zone without permission of the COTP.

DATES: The special local regulations and safety zones listed in 33 CFR 100.120 and 33 CFR 165.171 will be enforced during the dates and times as listed in the SUPPLEMENTARY INFORMATION section of this document. For events occurring before August 1, 2015, actual notice of the safety zone or special local regulation will be provided.

FOR FURTHER INFORMATION CONTACT: If you have questions on this notice, call or email Chief Chris Bains, U.S. Coast Guard, Sector Northern New England, Waterways Management Division, via telephone at 207-347-5003 or email at Chris.D.Bains@uscg.mil.

SUPPLEMENTARY INFORMATION: The Coast Guard will enforce the special local regulations and safety zones listed in 33 CFR 100.120 and 33 CFR 165.171. These regulations will be enforced for the duration of each event, on or about the dates indicated in TABLES 1 and 2.

Table 1
[33 CFR 100.120]
JUNE
Charlie Begin Memorial Lobster Boat Races | • Event Type: Power Boat Race. • Sponsor: Boothbay Harbor Lobster Boat Committee.
| • Date: June 20, 2015.
| • Time: 8:00 a.m. to 2:00 p.m.
| • Location: The regulated area includes all waters of Boothbay Harbor, Maine in the vicinity of John's Island within the following points (NAD 83):
| 43°50′04″ N., 069°38′37″ W.
| 43°50′54″ N., 069°38′06″ W.
| 43°50′49″ N., 069°37′50″ W.
| 43°50′00″ N., 069°38′20″ W.
Rockland Harbor Lobster Boat Races | • Event Type: Power Boat Race.
| • Sponsor: Rockland Harbor Lobster Boat Race Committee.
| • Date: June 21, 2015.
| • Time: 10:00 a.m. to 3:00 p.m.
| • Location: The regulated area includes all waters of Rockland Harbor, Maine in the vicinity of the Rockland Breakwater Light within the following points (NAD 83):
| 44°05′59″ N., 069°04′53″ W.
| 44°06′43″ N., 069°05′25″ W.
| 44°06′50″ N., 069°05′05″ W.
| 44°06′05″ N., 069°04′34″ W.
Windjammer Days Parade of Ships | • Event Type: Tall Ship Parade.
| • Sponsor: Boothbay Region Chamber of Commerce.
| • Date: June 24, 2015.
| • Time: 1:00 p.m. to 3:00 p.m.
| • Location: The regulated area includes all waters of Boothbay Harbor, Maine in the vicinity of Tumbler's Island within the following points (NAD 83):
| 43°51′02″ N., 069°37′33″ W.
| 43°50′47″ N., 069°37′31″ W.
| 43°50′23″ N., 069°37′57″ W.
| 43°50′01″ N., 069°37′45″ W.
| 43°50′01″ N., 069°38′31″ W.
| 43°50′25″ N., 069°38′25″ W.
| 43°50′49″ N., 069°37′45″ W.
Bass Harbor Blessing of the Fleet Lobster Boat Race | • Event Type: Power Boat Race. • Sponsor: Tremont Congregational Church.
| • Date: June 28, 2015.
| • Time: 10:30 a.m. to 1:30 p.m.
| • Location: The regulated area includes all waters of Bass Harbor, Maine in the vicinity of Lopaus Point within the following points (NAD 83):
| 44°13′28″ N., 068°21′59″ W.
| 44°13′20″ N., 068°21′40″ W.
| 44°14′05″ N., 068°20′55″ W.
| 44°14′12″ N., 068°21′14″ W.
JULY
Moosabec Lobster Boat Races | • Event Type: Power Boat Race.
| • Sponsor: Moosabec Boat Race Committee.
| • Date: July 4, 2015.
| • Time: 10:00 a.m. to 12:30 p.m.
| • Location: The regulated area includes all waters of Jonesport, Maine within the following points (NAD 83):
| 44°31′21″ N., 067°36′44″ W.
| 44°31′36″ N., 067°36′47″ W.
| 44°31′44″ N., 067°35′36″ W.
| 44°31′29″ N., 067°35′33″ W.
The Great Race | • Event Type: Rowing and Paddling Boat Race.
| • Sponsor: Franklin County Chamber of Commerce.
| • Date: July 5, 2015.
| • Time: 9:30 a.m. to 2:00 p.m.
| • Location: The regulated area includes all waters of Lake Champlain in the vicinity of Saint Albans Bay within the following points (NAD 83):
| 44°47′18″ N., 073°10′27″ W.
| 44°47′10″ N., 073°08′51″ W.
Searsport Lobster Boat Races | • Event Type: Power Boat Race.
| • Sponsor: Searsport Lobster Boat Race Committee.
| • Date: July 11, 2015.
| • Time: 7:00 a.m. to 3:00 p.m.
| • Location: The regulated area includes all waters of Searsport Harbor, Maine within the following points (NAD 83):
| 44°26′50″ N., 068°55′20″ W.
| 44°27′04″ N., 068°55′26″ W.
| 44°27′12″ N., 068°54′35″ W.
| 44°26′59″ N., 068°54′29″ W.
Mayor's Cup Regatta | • Event Type: Sailboat Parade.
| • Sponsor: Plattsburgh Sunrise Rotary.
| • Date: July 11, 2015.
| • Time: 10:00 a.m. to 4:00 p.m.
| • Location: The regulated area includes all waters of Cumberland Bay on Lake Champlain in the vicinity of Plattsburgh, New York within the following points (NAD 83):
| 44°41′26″ N., 073°23′46″ W.
| 44°40′19″ N., 073°24′40″ W.
| 44°42′01″ N., 073°25′22″ W.
Stonington Lobster Boat Races | • Event Type: Power Boat Race.
| • Sponsor: Stonington Lobster Boat Race Committee.
| • Date: July 12, 2015.
| • Time: 9:30 a.m. to 3:30 p.m.
| • Location: The regulated area includes all waters of Stonington, Maine within the following points (NAD 83):
| 44°08′55″ N., 068°40′12″ W.
| 44°09′00″ N., 068°40′15″ W.
| 44°09′11″ N., 068°39′42″ W.
| 44°09′07″ N., 068°39′39″ W.
The Challenge Race | • Event Type: Rowing and Paddling Boat Race.
| • Sponsor: Lake Champlain Maritime Museum.
| • Date: July 12, 2015.
| • Time: 10:30 a.m. to 2:30 p.m.
| • Location: The regulated area includes all waters of Lake Champlain in the vicinity of Button Bay State Park within the following points (NAD 83):
| 44°12′25″ N., 073°22′32″ W.
| 44°12′00″ N., 073°21′42″ W.
| 44°12′19″ N., 073°21′25″ W.
| 44°13′16″ N., 073°21′36″ W.
Yarmouth Clam Festival Paddle Race | • Event Type: Rowing and Paddling Boat Race. • Sponsor: Maine Island Trail Association.
| • Date: July 18, 2015.
| • Time: 12:00 p.m. to 5:00 p.m.
| • Location: The regulated area includes all waters in the vicinity of the Royal River outlet and Lane's Island within the following points (NAD 83):
| 43°47′47″ N., 070°08′40″ W.
| 43°47′50″ N., 070°07′13″ W.
| 43°47′06″ N., 070°07′32″ W.
| 43°47′17″ N., 070°08′25″ W.
Friendship Lobster Boat Races | • Event Type: Power Boat Race.
| • Sponsor: Friendship Lobster Boat Race Committee.
| • Date: July 19, 2015.
| • Time: 8:00 a.m. to 3:00 p.m.
| • Location: The regulated area includes all waters of Friendship Harbor, Maine within the following points (NAD 83):
| 43°57′51″ N., 069°20′46″ W.
| 43°58′14″ N., 069°19′53″ W.
| 43°58′19″ N., 069°20′01″ W.
| 43°58′00″ N., 069°20′46″ W.
Tall Ships Visiting Portsmouth | • Event Type: Regatta and Boat Parade.
| • Sponsor: Portsmouth Maritime Commission, Inc.
| • Date: July 22, 2015.
| • Time: 5:30 p.m. to 6:30 p.m.
| • Location: The regulated area includes all waters of Portsmouth Harbor, New Hampshire in the vicinity of Castle Island within the following points (NAD 83):
| 43°03′11″ N., 070°42′26″ W.
| 43°03′18″ N., 070°41′51″ W.
| 43°04′42″ N., 070°42′11″ W.
| 43°04′28″ N., 070°44′12″ W.
| 43°05′36″ N., 070°45′56″ W.
| 43°05′29″ N., 070°46′09″ W.
| 43°04′19″ N., 070°44′16″ W.
| 43°04′22″ N., 070°42′33″ W.
AUGUST
Eggemoggin Reach Regatta | • Event Type: Wooden Boat Parade.
| • Sponsor: Rockport Marine, Inc. and Brookline Boat Yard.
| • Date: August 1, 2015.
| • Time: 11:00 a.m. to 7:00 p.m.
| • Location: The regulated area includes all waters of Eggemoggin Reach and Jericho Bay in the vicinity of Naskeag Harbor, Maine within the following points (NAD 83):
| 44°15′16″ N., 068°36′26″ W.
| 44°12′41″ N., 068°29′26″ W.
| 44°07′38″ N., 068°31′30″ W.
| 44°12′54″ N., 068°33′46″ W.
Lake Champlain Dragon Boat Festival | • Event Type: Rowing and Paddling Boat Race. • Sponsor: Dragonheart Vermont.
| • Date: August 2, 2014.
| • Time: 7:00 a.m. to 6:00 p.m.
| • Location: The regulated area includes all waters of Burlington Bay within the following points (NAD 83):
| 44°28′49″ N., 073°13′22″ W.
| 44°28′41″ N., 073°13′36″ W.
| 44°28′28″ N., 073°13′31″ W.
| 44°28′38″ N., 073°13′18″ W.
Winter Harbor Lobster Boat Races | • Event Type: Power Boat Race.
| • Sponsor: Winter Harbor Chamber of Commerce.
| • Date: August 8, 2015.
| • Time: 9:00 a.m. to 3:00 p.m.
| • Location: The regulated area includes all waters of Winter Harbor, Maine within the following points (NAD 83):
| 44°22′06″ N., 068°05′13″ W.
| 44°23′06″ N., 068°05′08″ W.
| 44°23′04″ N., 068°04′37″ W.
| 44°22′05″ N., 068°04′44″ W.
Merritt Brackett Lobster Boat Races | • Event Type: Power Boat Race.
| • Sponsor: Town of Bristol, Maine.
| • Date: August 16, 2015.
| • Time: 9:30 a.m. to 3:00 p.m.
| • Location: The regulated area includes all waters of Pemaquid Harbor, Maine within the following points (NAD 83):
| 43°52′16″ N., 069°32′10″ W.
| 43°52′41″ N., 069°31′43″ W.
| 43°52′35″ N., 069°31′29″ W.
| 43°52′09″ N., 069°31′56″ W.
Long Island Lobster Boat Race | • Event Type: Power Boat Race.
| • Sponsor: Long Island Lobster Boat Race Committee.
| • Date: August 15, 2015.
| • Time (Approximate): 11:00 a.m. to 7:00 p.m.
| • Location: The regulated area includes all waters of Casco Bay, Maine in the vicinity of Great Ledge Cove and Dorseys Cove off the north west coast of Long Island, Maine within the following points (NAD 83):
| 43°41′59″ N., 070°08′59″ W.
| 43°42′04″ N., 070°09′10″ W.
| 43°41′41″ N., 070°09′38″ W.
| 43°41′36″ N., 070°09′30″ W.

Table 2
[33 CFR 165.171]
JUNE
Rotary Waterfront Days Fireworks | • Event Type: Fireworks Display.
| • Sponsor: Gardiner Rotary.
| • Date: June 20, 2015.
| • Time: 8:30 p.m. to 9:30 p.m.
| • Location: In the vicinity of the Gardiner Waterfront, Gardiner, Maine in approximate position:
| 44°13′52″ N, 069°46′08″ W (NAD 83).
Windjammer Days Fireworks | • Event Type: Fireworks Display.
| • Sponsor: Boothbay Harbor Region Chamber of Commerce.
| • Date: June 24, 2015.
| • Time: 8:30 p.m. to 9:00 p.m.
| • Location: In the vicinity of McFarland Island, Boothbay Harbor, Maine in approximate position:
| 43°50′38″ N, 069°37′57″ W (NAD 83)
JULY
Burlington Independence Day Fireworks | • Event Type: Fireworks Display. • Sponsor: City of Burlington, Vermont.
| • Date: July 3, 2015.
| • Time: 8:30 p.m. to 11:30 p.m.
| • Location: From a barge in the vicinity of Burlington Harbor, Burlington, Vermont in approximate position:
| 44°28′31″ N, 073°13′31″ W (NAD 83).
Camden 4th of July Fireworks | • Event Type: Fireworks Display.
| • Sponsor: Camden, Rockport, Lincolnville Chamber of Commerce.
| • Date: July 4, 2015.
| • Time: 9:00 p.m. to 10:30 p.m.
| • Location: In the vicinity of Camden Harbor, Maine in approximate position:.
| 44°12′32″ N, 069°02′58″ W (NAD 83).
Bar Harbor 4th of July Fireworks | • Event Type: Fireworks Display.
| • Sponsor: Bar Harbor Chamber of Commerce.
| • Date: July 4, 2015.
| • Time: 8:00 p.m. to 10:00 p.m.
| • Location: In the vicinity of Bar Harbor Town Pier, Bar Harbor, Maine in approximate position:
| 44°23′31″ N, 068°12′15″ W (NAD 83).
Boothbay Harbor 4th of July Fireworks | • Event Type: Fireworks Display.
| • Sponsor: Town of Boothbay Harbor.
| • Date: July 4, 2015.
| • Time: 8:30 p.m. to 9:00 p.m.
| • Location: In the vicinity of McFarland Island, Boothbay Harbor, Maine in approximate position:
| 43°50′38″ N, 069°37′57″ W (NAD 83).
Eastport 4th of July Fireworks | • Event Type: Fireworks Display.
| • Sponsor: Eastport 4th of July Committee.
| • Date: July 4, 2015.
| • Time: 9:00 p.m. to 10:30 p.m.
| • Location: From the Waterfront Public Pier in Eastport, Maine in approximate position:
| 44°54′25″ N, 066°58′55″ W (NAD 83).
Ellis Short Sand Park Trustee Fireworks | • Event Type: Fireworks Display. • Sponsor: William Burnham.
| • Date: July 4, 2015.
| • Time: 9:00 p.m. to 10:30 p.m.
| • Location: In the vicinity of York Beach, Maine in approximate position:
| 43°10′27″ N, 070°36′26″ W (NAD 83).
Jonesport 4th of July Fireworks | • Event Type: Fireworks Display.
| • Sponsor: Jonesport 4th of July Committee.
| • Date: July 4, 2015.
| • Time: 8:45 p.m. to 9:30 p.m.
| • Location: In the vicinity of Beals Island, Jonesport, Maine in approximate position:
| 44°31′18″ N, 067°36′43″ W (NAD 83).
Portland Harbor 4th of July Fireworks | • Event Type: Fireworks Display.
| • Sponsor: Department of Parks and Recreation, Portland, Maine.
| • Date: July 4, 2015.
| • Rain date: July 5, 2015.
| • Time: 8:30 p.m. to 11:30 p.m.
| • Location: In the vicinity of East End Beach, Portland, Maine in approximate position:
| 43°40′16″ N, 070°14′44″ W (NAD 83).
Southwest Harbor 4th of July Fireworks | • Event Type: Fireworks Display.
| • Sponsor: Southwest Harbor-Tremont Chamber of Commerce.
| • Date: July 4, 2015.
| • Time: 9:00 p.m. to 10:30 p.m.
| • Location: Southwest Harbor, Maine in approximate position:
| 44°16′25″ N, 068°19′21″ W (NAD 83).
Lubec Bicentennial Fireworks | • Event Type: Fireworks Display.
| • Sponsor: Town of Lubec, Maine.
| • Date: July 5, 2015.
| • Time: 9:00 p.m. to 10:30 p.m.
| • Location: In the vicinity of the Lubec Public Boat Launch in approximate position:
| 44°51′52″ N, 066°59′06″ W (NAD 83).
Vinalhaven 4th of July Fireworks | • Event Type: Fireworks Display.
| • Sponsor: Vinalhaven 4th of July Committee.
| • Date: July 4, 2015.
| • Time: 9:00 p.m. to 10:30 p.m.
| • Location: In the vicinity of Grime′s Park, Vinalhaven, Maine in approximate position:
| 44°02′34″ N, 068°50′26″ W (NAD 83).
Main Street Heritage Days 4th of July Fireworks | • Event Type: Fireworks Display. • Sponsor: Main Street Inc..
| • Date: July 5, 2015.
| • Time: 9:00 p.m. to 10:30 p.m.
| • Location: In the vicinity of Reed and Reed Boat Yard, Woolwich, Maine in approximate position:
| 43°54′56″ N, 069°48′16″ W (NAD 83).
Peaks to Portland Swim | • Event Type: Swim Event.
| • Sponsor: Cumberland County YMCA.
| • Date: July 18, 2015.
| • Time: 8:30 a.m.to 12:00 p.m.
| • Location: The regulated area includes all waters of Portland Harbor between Peaks Island and East End Beach in Portland, Maine within the following points (NAD 83):
| 43°39′20″ N, 070°11′58″ W
| 43°39′45″ N, 070°13′19″ W
| 43°40′11″ N, 070°14′13″ W
| 43°40′08″ N, 070°14′29″ W
| 43°40′00″ N, 070°14′23″ W
| 43°39′34″ N, 070°13′31″ W
| 43°39′13″ N, 070°11′59″ W
Richmond Days Fireworks | • Event Type: Fireworks Display.
| • Sponsor: Town of Richmond, Maine.
| • Date: July 25, 2015.
| • Time: 9:00 p.m. to 10:30 p.m.
| • Location: From a barge in the vicinity of the inner harbor, Tenants Harbor, Maine in approximate position:
| 44°08′42″ N, 068°27′06″ W (NAD83).
Tri for a Cure Swim Clinics and Triathlon | • Event Type: Swim Event. • Sponsor: Maine Cancer Foundation.
| • Dates & Times:
| June 27, 2015 9:00 a.m. to 10:30 a.m.
| July 8, 2015 5:30 p.m. to 7:00 p.m.
| July 12, 2015 9:00 a.m. to 10:30 a.m.
| July 18, 2015 1:30 p.m. to 3:00 p.m.
| July 26, 2015 7:00 a.m. to 10:00 a.m.
| • Location: The regulated area includes all waters of Portland Harbor, Maine in the vicinity of Spring Point Light within the following points (NAD 83):.
| 43°39′01″ N, 070°13′32″ W
| 43°39′07″ N, 070°13′29″ W
| 43°39′06″ N, 070°13′41″ W
| 43°39′01″ N, 070°13′36″ W
August
Westerlund′s Landing Party Fireworks | • Event Type: Fireworks Display. • Sponsor: Portside Marina.
| • Date: August 1, 2015.
| • Time (Approximate):
| 9:00 p.m. to 9:30 p.m.
| • Location: In the vicinity of Westerlund′s Landing in South Gardiner, Maine in approximate position:
| 44°10′19″ N, 069°45′24″ W (NAD 83).
York Beach Fire Department Fireworks | • Event Type: Fireworks Display. • Sponsor: York Beach Fire Department.
| • Date: August 2, 2015.
| • Time (Approximate):
| 8:00 p.m. to 11:30 p.m.
| • Location: In the vicinity of Short Sand Cove in York, Maine in approximate position:
| 43°10′27″ N, 070°36′25″ W (NAD 83).
North Hero Air Show | • Event Type: Air Show.
| • Sponsor: North Hero Fire Department.
| • Date: August 1, 2015.
| • Time (Approximate):
| 10:00 a.m.to 5:00 p.m.
| • Location: In the vicinity of Shore Acres Dock, North Hero, Vermont in approximate position:
| 44°48′24″ N, 073°17′02″ W
| 44°48′22″ N, 073°16′46″ W
| 44°47′53″ N, 073°16′54″ W
| 44°47′54″ N, 073°17′09″ W
Windjammer Weekend Fireworks | • Event Type: Fireworks Display.
| • Sponsor: Town of Camden, Maine.
| • Date: August 28, 2015.
| • Time (Approximate):
| 9:00 p.m. to 10:30 p.m.
| • Location: From a barge in the vicinity of Northeast Point, Camden Harbor, Maine in approximate position:
| 44°12′10″ N, 069°03′11″ W (NAD 83)
SEPTEMBER
Eastport Pirate Festival Fireworks | • Event Type: Fireworks Display.
| • Sponsor: Eastport Pirate Festival.
| • Date: September 5, 2015.
| • Time (Approximate):
| 9:00 p.m. to 10:30 p.m.
| • Location: From the Waterfront Public Pier in Eastport, Maine in approximate position:.
| 44°54′17″ N, 066°58′58″ W (NAD 83)
Lake Champlain Swimming Race | • Event Type: Swim Event.
| • Sponsor: Christopher Lizzaraque.
| • Date: September 13, 2015.
| • Time (Approximate):
| 10:30 a.m. to 3 p.m.
| • Location: Essex Beggs Point Park, Essex, New York, to Charlotte Beach, Charlotte, Vermont.
| 44°18′32″ N. 073°20′52″ W
| 44°20′03″ N. 073°16′53″ W

For events where the date is different from the dates previously published for that event, new Temporary Rules will be issued to enforce limited access areas for the marine event. The Coast Guard may patrol each event area under the direction of a designated Coast Guard Patrol Commander (PATCOM). The PATCOM may be contacted on Channel 16 VHF-FM (156.8 MHz) by the call sign “PATCOM.” Official patrol vessels may consist of any Coast Guard, Coast Guard Auxiliary, state, or local law enforcement vessels assigned or approved by the COTP, Sector Northern New England. For information about regulations and restrictions for waterway use during the effective periods of these events, please refer to 33 CFR 100.120 and 33 CFR 165.171.

This notice is issued under authority of 33 CFR 100.120, 33 CFR 165.171, and 5 U.S.C. 552 (a). In addition to this notice in the Federal Register, the Coast Guard will provide the maritime community with advance notification of this enforcement period via the Local Notice to Mariners and marine information broadcasts. If the COTP determines that the regulated area need not be enforced for the full duration stated in this notice, he or she may use a Broadcast Notice to Mariners to grant general permission to enter the regulated area.

Dated: June 29, 2015.
M. A. Baroody,
Captain, U.S. Coast Guard, Captain of the Port Sector Northern New England.

[FR Doc. 2015-18457 Filed 7-27-15; 8:45 am]

BILLING CODE 9110-04-P